DEPARTMENT OF ENERGY

U.S. Energy Information Administration

Agency Information Collection Extension With Changes

AGENCY: U.S. Energy Information Administration (EIA), U.S. Department of Energy (DOE).

ACTION: Notice.

SUMMARY: EIA submitted an information collection request for extension as required by the Paperwork Reduction Act of 1995. The information collection requests a three-year extension of its “Generic Clearance for the Collection of Qualitative Feedback on Agency Service Delivery” under OMB Control No. 1905-0210. This generic clearance enables EIA to collect customer and stakeholder feedback in an efficient, timely manner, in accordance with our commitment to ensure that our programs are effective, meet our customers' needs, and receive feedback on improving service delivery to the public.

DATES: EIA must receive all comments on this proposed information collection no later than February 9, 2018. If you anticipate any difficulties in submitting your comments by the deadline, contact the DOE Desk Officer at 202-395-4718.

ADDRESSES: Written comments may be submitted to: James Tyree, Office of Information and Regulatory Affairs, Office of Management and Budget, New Executive Office Building, Room 9249, 735 17th Street NW, Washington, DC 20503, james.n.tyree@omb.eop.gov and to Jacob Bournazian, U.S. Energy Information Administration, 1000 Independence Avenue SW, EI-21, Washington, DC 20585, Email jacob.bournazian@eia.gov.

FOR FURTHER INFORMATION CONTACT: Requests for additional information or copies of the information collection instrument and instructions, send your request to Jacob Bournazian, U.S. Energy Information Administration, 1000 Independence Avenue SW, Washington, DC 20585, phone: 202-586-5562, or email it to jacob.bournazian@eia.gov.

SUPPLEMENTARY INFORMATION: This information collection request contains

(1) OMB Number: 1905-0210.

(2) Information Collection Request Title: Generic Clearance for the Collection of Qualitative Feedback on Agency Service Delivery.

(3) Type of Request: Renewal with changes; Purpose: The proposed information collection activity provides a means to collect qualitative customer and stakeholder feedback in an efficient, timely manner, in accordance with the Administration's commitment to improving service delivery. Qualitative feedback means data that provide useful insights on perceptions and opinions, but are not statistical surveys that yield quantitative results that can be generalized to the population of study. This feedback provides insights into customer or stakeholder perceptions, experiences and expectations. It also provides an early warning of issues with service, or focuses attention on areas where communication, training or changes in operations might improve the accuracy of data reported on survey instruments or the delivery of products or services. These collections will allow for ongoing, collaborative and actionable communications between the agency and its customers and stakeholders. It will also allow feedback to contribute directly to the improvement of program management. Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

(4) Annual Estimated Number of Respondents: 80,600.

(5) Annual Estimated Number of Responses: 80,600.

(6) Annual Estimated Number of Burden Hours: 8,463.

Comments submitted in response to this notice may be made available to the public through relevant websites. For this reason, please do not include in your comments information of a confidential nature, such as sensitive personal information or proprietary information. If you send an email comment; your email address will be automatically captured and included as part of the comment that is placed in the public docket and made available on the internet. Please note that responses to this public comment request containing any routine notice about the confidentiality of the communication will be treated as public comments that may be made available to the public notwithstanding the inclusion of the routine notice.

An agency may not conduct or sponsor, and a person is not required to respond to, a collection of information unless it displays a currently valid Office of Management and Budget control number.

Statutory Authority: Executive Order (E.O.) 13571, Streamlining Service Delivery and Improving Customer Service.

Issued in Washington, DC, on January 3, 2018.
Nanda Srinivasan,
Director, Office of Survey Development and Statistical Integration, U.S. Energy Information Administration.

[FR Doc. 2018-00260 Filed 1-9-18; 8:45 am]

BILLING CODE 6450-01-P